DEPARTMENT OF ENERGY

Federal Energy Regulatory Commission

[Docket No. CP11-490-000]

Columbia Gas Transmission, LLC; Notice of Application

Take notice that on May 20, 2011, Columbia Gas Transmission, LLC (Columbia), filed an application pursuant to section 7(c) of the Natural Gas Act and part 157 of the Commission's Regulations, for a certificate of public convenience and necessity to construct and operate a 2.47-mile of 20-inch pipeline to transport natural gas for Virginia Power Services Energy Corp., Inc. (VPSEC) in Warren County, Virginia. Additionally, Columbia will construct a new measurement and regulation station, and other appurtenant facilities located in Montgomery County, Maryland, Loudon County, Virginia and Hardy County, West Virginia. The filing may also be viewed on the Web at http://www.ferc.gov using the “eLibrary” link. Enter the docket number excluding the last three digits in the docket number field to access the document. For assistance, contact FERC at FERCOnlineSupport@gerc.gov or call toll-free, (886) 208-3676 or TYY, (202) 502-8659.

The purpose of the project is to provide firm capacity for the transportation of natural gas to be used in the operation of a new gas-fired electric generation facility being constructed by Virginia Electric and Power Company d/b/a Dominion Virginia Power (VEPCO) in Warren County, Virginia (VEPCO-Warren Project). The VEPCO-Warren Project will enable Columbia to provide up to 224 MDth/day and 246 MDth/day of firm transportation service to VPSEC from April through September and October through March, respectively. The applicable rates for service during the term of the service agreements will be the maximum rates set forth in Columbia's tariff for service under the applicable rate schedules. Columbia also requests a rolled-in-rate treatment for the VEPCO-Warren Project. The estimated cost of the VEPCO-Warren County Project is $34,300,000. VEPCO expects to complete the construction and place the electric generation facility in service during 2014.

Any questions regarding this application should be directed to Fredric J. George, Lead Counsel, Columbia Gas Transmission, LLC, P.O. Box 1273, Charleston, West Virginia 25325-1273; telephone 304-357-2359, fax 304-357-3206.

Any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit original and 7 copies of filings made with the Commission and must mail a copy to the applicant and to every other party in the proceeding. Only parties to the proceeding can ask for court review of Commission orders in the proceeding.

Motions to intervene, protests and comments may be filed electronically via the Internet in lieu of paper, see, 18 CFR 385.2001 (a)(1)(iii) and the instructions on the Commission's Web site under the “e-Filing” link. The Commission strongly encourages electronic filings.

Comment Date: June 27, 2011.

Dated: June 6, 2011.
Nathaniel J. Davis, Sr.,
Deputy Secretary.

[FR Doc. 2011-15546 Filed 6-21-11; 8:45 am]

BILLING CODE 6717-01-P